OVERSEAS PRIVATE INVESTMENT CORPORATION

Sunshine Act Meetings

FEDERAL REGISTER CITATION OF PREVIOUS ANNOUNCEMENT: 83 FR 40095.

PREVIOUSLY ANNOUNCED TIME AND DATE OF THE MEETING: 1 p.m., September 5, 2018.

CHANGES IN THE MEETING: OPIC's Sunshine Act notice of its Public Hearing in Conjunction with each Board meeting was published in the Federal Register (Volume 83, Number 156, Pages 40095-40096) on Monday, August 13, 2018. No requests were received to provide testimony or submit written statements for the record; therefore, OPIC's public hearing scheduled for 1 p.m., September 5, 2018, in conjunction with OPIC's September 13, 2018, Board of Directors meeting has been cancelled.

CONTACT PERSON FOR INFORMATION: Information on the hearing cancellation may be obtained from Catherine F.I. Andrade at (202) 336-8768, or via email at Catherine.Andrade@opic.gov.

Dated: August 29, 2018.
Catherine F.I. Andrade,
OPIC Corporate Secretary.

[FR Doc. 2018-19129 Filed 8-29-18; 4:15 pm]

BILLING CODE 3210-01-P